DEPARTMENT OF HEALTH AND HUMAN SERVICES

Centers for Disease Control and Prevention

[60Day-23-23IE; Docket No. CDC-2023-0077]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Social and Economic Barriers to Receiving Optimal Services Along the Cancer Care Continuum. This mixed methods data collection effort will help CDC understand the social and economic barriers that colorectal, breast, and cervical cancer survivors and their caregivers face at each stage of the cancer care continuum, from screening through survivorship, and how these barriers may vary by population.

DATES: CDC must receive written comments on or before November 27, 2023.

ADDRESSES: You may submit comments, identified by Docket No. CDC-2023-0077 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Social and Economic Barriers to Receiving Optimal Services Along the Cancer Care Continuum—New—National Center for Chronic Disease Prevention and Health Promotion (NCCDPHP), Centers for Disease Control and Prevention (CDC)

Background and Brief Description

The purpose of this project is to: (1) examine and better understand social and economic barriers faced by colorectal, breast, and cervical cancer survivors and their caregivers at each stage of the Cancer Care Continuum (CCC); and (2) quantify the impact of individual and compounded barriers on health outcomes along the CCC for survivors. CDC will use a mixed methods data collection approach.

First, CDC plans to pull our sample from cancer registry data in California, North Carolina, and Texas based on inclusion criteria (received first cancer diagnosis of either breast, cervical or colorectal cancer in 2021; 18-75 years of age at time of diagnosis; are non-Hispanic Black/African American, non-Hispanic White, or Hispanic; alive at the time of data extraction/sample selection). Then, CDC will administer a Wave 1 (baseline) and Wave 2 (follow-up) survey to cancer survivors, as well as a survey to their caregivers. Additionally, CDC will conduct interviews with survivors and caregivers as well as focus groups with representatives from patient/survivor advocacy organizations. CDC will incorporate cancer registry data into the quantitative data analysis, and triangulate findings from the quantitative and qualitative data collection efforts. Results will be used to inform efforts aimed at increasing access to cancer care services, reducing the burden of cancers and closing the disparities gap.

CDC requests OMB approval for an estimated 1,681 annual burden hours. There are no costs to respondents other than their time to participate.

Estimated Annualized Burden Hours
Type of respondents | Form name | Number of respondents | Number of responses per respondent | Average burden per response (in hours) | Total burden (in hours)
Wave 1 Survivor Survey Respondents | W1 Survey Instrument | 3,000 | 1 | 20/60 | 1,000
Wave 2 Survivor Survey Respondents | W2 Survey Instrument | 1,200 | 1 | 20/60 | 400
Survivor Interviewees | Survivor Interview Guide | 20 | 1 | 1 | 20
Caregiver Survey Respondents | Caregiver Survey Instrument | 900 | 1 | 15/60 | 225
Caregiver Interviewees | Caregiver Interview Guide | 20 | 1 | 1 | 20
Patient Advocacy Group—Focus Group Participants | Advocacy Representatives Focus Group Guide | 16 | 1 | 1 | 16
Total |  |  |  |  | 1,681

Jeffrey M. Zirger,
Lead, Information Collection Review Office, Office of Public Health Ethics and Regulations, Office of Science, Centers for Disease Control and Prevention.

[FR Doc. 2023-20760 Filed 9-25-23; 8:45 am]

BILLING CODE 4163-18-P